DEPARTMENT OF ENERGY

Federal Energy Regulatory Commission

[Docket Nos. RP04-397-001; RP02-361-039]

Gulfstream Natural Gas System L.L.C.; Notice of Compliance Filing

August 27, 2004.

Take notice that, on August 25, 2004, Gulfstream Natural Gas System, L.L.C. (Gulfstream) tendered for filing as part of its FERC Gas Tariff, Original Volume No. 1, the following tariff sheets, with an effective date of August 11, 2004:

Sub First Revised Sheet No. 302

Sub First Revised Sheet No. 304

Sub First Revised Sheet No. 311

Sub First Revised Sheet No. 313

Sub First Revised Sheet No. 322

Sub First Revised Sheet No. 343

Gulfstream states that the filing is being made in compliance with an order by the Commission's Division of Tariffs and Market Development-South, issued on August 10, 2004, in Docket Nos. RP04-397-000 and RP02-361-035.

Gulfstream states that copies of the filing were served on parties on the official service list in the above-captioned proceeding.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2061 Filed 9-2-04; 8:45 am]

BILLING CODE 6717-01-P